DEPARTMENT OF ENERGY

Federal Energy Regulatory Commission

[Project No. 77-334]

Pacific Gas & Electric Company; Notice Of Application For Temporary Flow Modification Accepted For Filing, Soliciting Comments, Motions To Intervene, And Protests

Take notice that the following hydroelectric application has been filed with the Commission and is available for public inspection:

a. Application Type: Application for Temporary Variance of Flow Requirements.

b. Project No: 77-334.

c. Date Filed: January 30, 2026.

d. Applicant: Pacific Gas & Electric Company.

e. Name of Project: Potter Valley Hydroelectric Project.

f. Location: The project is located on the Eel River and East Fork of the Russian River in Lake and Mendocino counties, California. The project occupies federal lands managed by the U.S. Forest Service.

g. Filed Pursuant to: Federal Power Act, 16 U.S.C. 791a-825r.

h. Applicant Contact: Chadwick McCready, Pacific Gas and Electric Company, 300 Lakeside Drive, Oakland, CA 94612, (530) 685-5710.

i. FERC Contact: Katherine Schmidt, katherine.schmidt@ferc.gov, (415) 369-3348.

j. Cooperating agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: March 23, 2026, 5:00 p.m. Eastern Time.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-77-334. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The licensee requests a temporary variance of its minimum flow requirements at two project compliance locations (the Eel River below Scott Dam E-2 and the East Branch Russian River E-16). The licensee has elected to leave the spillway gates at Scott Dam open indefinitely as a strategy to manage seismic risk to the Lake Pillsbury Reservoir, thereby reducing the storage capacity of Lake Pillsbury to approximately 52,600 acre-feet of water storage (a reduction in potential storage of approximately 18,200 acre-feet). The licensee also maintains a minimum pool of 12,000 acre-feet in Lake Pillsbury to avoid bank sloughing, which is expected to occur below this storage target, and would mobilize sediment into the reservoir, which would likely lead to dam safety and operational issues. The project is also subject to flow requirements under Article 52, which requires it to comply with the reasonable and prudent alternative provided by National Marine Fisheries Service's 2002 Biological Opinion to prevent jeopardy to Endangered Species Act-listed salmonids present in the Eel River Basin.

To preserve water storage in Lake Pillsbury while under these reservoir storage limitations, and to conserve cold water for downstream aquatic resources in the Eel River, the licensee has set a storage target of 25,000 acre-feet on October 1, 2026 that it calculates as sufficient to fulfill the safety and regulatory requirements of its license. To manage water storage so that this target can be achieved, the licensee proposes to implement a temporary flow variance, as follows:

1. Reclassify the water year type of gaging station E-2 to a critical water year classification so that compliance for flows released into the Eel River below Scott Dam would be consistent with the critical water year type minimum flow requirement of 20 cubic feet per second (cfs). However, releases from the low-level outlet in Scott Dam cannot be less than 35 cfs, and in practice releases from Scott Dam will likely be greater than its operational limitation of 35 cfs because the total release amount would include all flows released to satisfy E-2, E-11, and E-16 requirements, and any contract water amounts, before the diversions occur.

2. If Lake Pillsbury is spilling, when reservoir water surface elevation is above 1,900.00 feet (licensee datum), from April 15 through May 14 releases to the East Branch Russian River (as measured at gage E-16) would be 35 cfs in a normal water year classification, 25 cfs in a dry water year classification, and 5 cfs for a critical water year classification. From May 15 through June 30, diversions to the East Branch Russian River would be 75 cfs in a normal water year classification, 25 cfs in a dry water year classification, and 5 cfs in a critical water year classification.

3. If Lake Pillsbury is not spilling April 15 through June 30, East Branch Russian River/E-16 releases would be first be set at 25 cfs and then adjusted between 25 and 5 cfs based on a flexible management strategy, should 2026 be determined to be a normal or dry water year classification under Article 52 criteria. The licensee will make adjustments to flows released to the East Branch Russian River during the variance after considering water availability, hydrologic forecast tools used to monitor the late fall and winter reservoir storage forecast, the potential for encroachment into the 12,000 acre-feet minimum pool safety threshold, the cool-water pool status, safety concerns, water temperature conditions in the Eel River, and in consultation with the resource agencies and the Drought Working Group (DWG). However, should 2026 be determined to be a critical water year classification under Article 52 criteria, the water released to East Branch Russian River/E-16 would be 5 cfs (which is the current minimum flow to East Branch Russian River required under Article 52 in a critical water year).

4. From July 1 through September 30, East Branch Russian River/E-16 releases would be adjusted between the 25 to 5 cfs range as determined by the water management criteria described above and in consultation with the DWG and resource agencies.

5. From October 1, 2026 through April 14, 2027, if Lake Pillsbury storage is below 36,000 acre-feet, releases to East Branch Russian River/E-16 would be set to 5 cfs regardless of water year until the variance ends. The temporary flow variance would end when storage in Lake Pillsbury exceeds 36,000 acre-feet of storage after September 30, 2026 and license-required flows would resume.

6. The DWG would meet monthly, or as needed, during the variance to review and discuss forecasted reservoir storage levels, release flow rates, water temperature profiles, release temperatures, and estimated release temperature projections for Eel River below Scott Dam/E-2.

7. Compliance with minimum flows at E-11 set under the variance would be calculated as a 24-hour average rather than the current instantaneous measurement compliance rate. There would be no change to the minimum flows released to the Eel River below Cape Horn Dam (as measured at E-11 gage) required under Article 52.

8. The period over which 2,500 acre-feet allocation of water reserved in Lake Pillsbury for use at the discretion of the resource agencies (Block Water) would be extended over the 2026 calendar year (January 1 through December 31, 2026) instead of through the 2026 water year (October 1, 2025 through September 30, 2026) as described by Article 52.

Monthly water storage and temperature reports would be filed with the Commission during the variance. The licensee requests that the variance begin as soon as possible, upon Commission approval, but requests that approval be granted by May 15, 2026.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. For public inquiries and assistance with making filings such as interventions, comments, or requests for rehearing, contact the Office of Public Participation at (202)502-6595 or OPP@ferc.gov.

(Authority: 18 CFR 2.1)

Dated: February 20, 2026.
Debbie-Anne A. Reese,
Secretary.

[FR Doc. 2026-03786 Filed 2-24-26; 8:45 am]

BILLING CODE 6717-01-P